SECURITIES AND EXCHANGE COMMISSION

Submissions for OMB Review; Comment Request

Upon written request; copies available from: Securities and Exchange Commission Office of Filings and Information Services, Washington, DC 20549.

Extensions:

Rule 12d1-3; OMB Control No. 3235-0109; SEC File No. 270-116.

Schedule 13E-4F; OMB Control No. 3235-0375; SEC File No. 270-340.

Form F-X; OMB Control No. 3235-0379; SEC File No. 270-336.

Notice is hereby given that pursuant to the Paperwork Reduction Act of 1995 (44 U.S.C. 3501 et seq.) the Securities and Exchange Commission (“Commission”) has submitted to the Office of Management and Budget these requests for extension of the previously approved collections of information discussed below.

Rule 12d1-3 (17 CFR 240.12d1-3) requires a certification that a security has been approved by an exchange for listing and registration pursuant to Section 12(d) of the Securities Exchange Act of 1934 (15 U.S.C. 78l(d)) to be filed with the Commission. The information required under Rule 12d1-3 must be filed with the Commission and is publicly available. We estimate that it takes approximately one-half hour to provide the information required under Rule 12d1-3 and that the information is filed by 688 respondents annually for a total annual reporting burden of 344 burden hours (.5 hours per response × 688 responses).

Schedule 13E-4F (17 CFR 240.13e-102) may be used by any foreign private issuer if: (1) The issuer is incorporated or organized under the laws of Canada; (2) the issuer is making a cash tender or exchange offer for the issuer's own securities; and (3) less than 40 percent of the class of such issuer's securities outstanding that is the subject of the tender offer is held by U.S. holders. The information collected must be filed with the Commission and is publicly available. We estimate that it takes 2 hours per response to prepare Schedule 13E-4F and that the information is filed by 3 respondents annually for a total annual reporting burden of 6 hours (2 hours per response × 3 responses).

Form F-X (17 CFR 239. 42) is used to appoint an agent for service of process by Canadian issuers registering securities on Form F-7, F-8, F-9 or F-10 or filing periodic reports on Form 40-F under the Exchange Act of 1934 (15 U.S.C. 78a et seq.). The information collected must be filed with the Commission and is publicly available. We estimate that it takes 2 hours per response to prepare Form F-X and that the information is filed by 129 respondents for a total annual reporting burden of 258 hours (2 hours per response × 129 responses).

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Securities and Exchange Commission, C/O Shirley Martinson, 6432 General Green Way, Alexandria, VA 22312; or send an e-mail to: PRA_Mailbox@sec.gov. Comments must be submitted to OMB within 30 days of this notice.

Dated: December 11, 2006.
Nancy M. Morris,
Secretary.

[FR Doc. E6-21589 Filed 12-18-06; 8:45 am]

BILLING CODE 8011-01-P